FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 9, 2010.

A. Federal Reserve Bank of Philadelphia (Michael E. Collins, Senior Vice President) 100 North 6th Street, Philadelphia, Pennsylvania 19105-1521:

1. Allen E. Ertel and Catharine K. Ertel, both of Montoursville Pennsylvania; Edward Ertel, Washington, D.C.; Amy Etrel, Jersey City, New Jersey; and Firetree, Ltd, Williamsport, Pennsylvania; to retain voting shares of Woodlands Financial Services Company, and thereby indirectly retain voting shares of Woodlands Bank, both of Williamsport, Pennsylvania.

Board of Governors of the Federal Reserve System, February 17, 2010.
Robert deV. Frierson,
Deputy Secretary of the Board.

[FR Doc. 2010-3336 Filed 2-19-10; 8:45 am]

BILLING CODE 6210-01-S